DEPARTMENT OF HEALTH AND HUMAN SERVICES

Centers for Disease Control and Prevention

[30Day-15-14AOD]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Incentives for the Adoption of the Youth@Work—Talking Safety Curriculum—New—National Institute for Occupational Safety and Health (NIOSH), Centers for Disease Control and Prevention (CDC).

Background and Brief Description

The mission of the National Institute for Occupational Safety and Health (NIOSH) is to promote safety and health at work for all people through research and prevention. Working youth have long been a priority area for NIOSH. Approximately 17.5 million workers were less than 24 years of age in 2010, representing 13% of the workforce [NIOSH 2014]. For the period 1997 through 2003, nearly 80% of high school students reported working while still in high school [BLS 2005; NIOSH 2013]. During the 10-year period 1998-2007, an estimated 7.9 million nonfatal injuries to younger workers were treated in U.S. hospital emergency departments (EDs) [CDC 2010]. The nonfatal injury rate was 5.0 ED-treated injuries per 100 full-time equivalent (FTE) workers, approximately two times higher than among workers age 25 or over [CDC 2010].

Given the disproportionate number of workplace injuries and illnesses suffered by young workers, occupational safety education is a critical and urgent concern [Chin et al. 2010]. Although the Occupational Safety and Health (OSH) Act of 1970 regulates that employers have the primary responsibility for providing a safe and healthy workplace, future working generations should be equipped with a foundation of workplace safety and health knowledge and skills. A mastery of general occupational safety and health competencies that protect workers from injury or illness is key to any work-readiness effort and to every job. NIOSH has developed fundamental workplace safety and health competencies that apply to all workplaces [NIOSH 2013; Schulte et al. 2014]. The eight core workplace safety and health competencies are general transferable skills that can apply across all industries. They can be used with the job-specific skills that workers gain through apprenticeship and career technical or vocational training programs. These core competencies/skills can be used to improve the health and safety of individuals in other places as well, such as in homes, schools, or communities.

The purpose of this study is therefore to conduct key informant interviews with a limited number of assistant superintendents and/or curriculum coordinators in school districts across the country to assess their openness to incorporating workplace safety and health skills for young workers into their programs as a vital component of their curricula in both academic and vocational education programs at the middle and high school level. The information will inform NIOSH on incentives barriers for the inclusion of work place safety and health competencies as the “missing life skill” in the curricula and programs of U.S. middle schools and high schools. Providing youth with foundational workplace health and safety skills enables young workers to better protect themselves and others and to contribute to safe and healthy working conditions.

For this project, twenty-eight (28) key informant interviews will be conducted, from a recruitment pool of eighty-four (84) school districts. The recruitment pool will consist of twenty-one (21) randomly assigned districts from each of the four (4) regions of the United States (Northeast, Midwest, West, and South) as defined by the U.S. Census Bureau. In each region, a sample of districts will be selected based on jurisdictional density, as defined by the National Center for Education Statistics (NCES). Recruitment letters will first be sent to the superintendent's office of the school districts selected for the recruitment pool. A recruitment call to the superintendent's office will follow in order to gauge the district's interest in participating and to identify the best potential respondent for that district. Next, the potential respondents will receive a recruitment letter detailing the objectives of the study, followed by a recruitment call to secure their participation and schedule an interview.

The twenty-eight (28) selected participants for this data collection will be recruited with the assistance of a contractor who has successfully performed similar tasks for NIOSH in the past. The sample size is based on recommendations related to qualitative interview methods and the research team's prior experience. The interview discussion guide will be administered verbally by phone to participants in English. Once this study is complete, results will be made available via various means including print publications and the agency internet site. The information gathered by this project will inform NIOSH of the receptivity and barriers faced by these school districts for incorporating workplace safety and health competencies for young workers as a vital component of their curricula within academic and vocational education programs at the middle and high school level.

There is no cost to respondents other than their time. The total estimated annual burden hours are 34.

Estimated Annualized Burden Hours
Type of respondents | Form name | Number of respondents | Number of responses per respondent | Average burden per response (in hours)
Public School Officials | Recruitment Call to Superintendent Office Script | 84 | 1 | 7/60
Public School Officials | Recruitment Call to Respondent Script | 84 | 1 | 7/60
Public School Officials | Discussion Guide | 28 | 1 | 30/60

Leroy A. Richardson,
Chief, Information Collection Review Office, Office of Scientific Integrity, Office of the Associate Director for Science, Office of the Director, Centers for Disease Control and Prevention.

[FR Doc. 2014-26473 Filed 11-6-14; 8:45 am]

BILLING CODE 4163-18-P